NUCLEAR REGULATORY COMMISSION

[Docket No. 50-285]

Omaha Public Power District Fort Calhoun Station, Unit 1, Environmental Assessment and Finding of No Significant Impact

The U.S. Nuclear Regulatory Commission (NRC) is considering issuance of an exemption from certain requirements of Appendix G to part 50 of Title 10 of the Code of Federal Regulations (10 CFR part 50) for Facility Operating License No. DPR-40, issued to the Omaha Public Power District (the licensee), for operation of the Fort Calhoun Station, Unit 1 (FCS), located in Washington County, Nebraska.

Environmental Assessment

Identification of the Proposed Action

The proposed action would exempt the licensee from certain requirements of Appendix G to 10 CFR part 50 to allow the application of the methodology approved for determining the pressure-temperature (P-T) limit curves in the American Society of Mechanical Engineers Boiler and Pressure Vessel Code (ASME Code), Section XI, Code Case N-640 entitled, “Alternate Reference Fracture Toughness for Development of P-T Curves for ASME Section XI, Division I.”

The proposed action is in accordance with the licensee's application for an exemption dated December 14, 2001.

The Need for the Proposed Action

The licensee wants to revise the currently approved methodology for P-T limit calculations to incorporate the methodology approved for use in Code Case N-640. Code Case N-640 allows the use of the KIC fracture toughness curve instead of the KIA fracture toughness curve, as required by Appendix G to Section XI, for determining P-T limits for reactor pressure vessel (RPV) materials. The exemption is needed because the methodology in Code Case N-640 is less conservative in determining P-T limits than the approved methodology in Appendix G of Section XI. The proposed action also supports the licensee's application for a license amendment dated December 14, 2001, to revise the P-T limits in the technical specifications to reflect an operating period of 40 effective full power years (EFPY).

In the associated exemption, the staff has determined that, pursuant to 10 CFR 50.12(a)(2)(ii), the underlying purpose of the regulation will continue to be served by the implementation of the code case.

Environmental Impacts of the Proposed Action

The NRC has completed its evaluation of the proposed action and concludes as set forth below, that there are no significant environmental impacts associated with the use of the alternative analysis methods to support the revision of the RPV P-T limit curves.

The proposed action will not significantly increase the probability or consequences of accidents, no changes are being made in the types of any effluents that may be released off site, and there is no significant increase in occupational or public radiation exposure. Therefore, there are no significant radiological environmental impacts associated with the proposed action.

With regard to potential nonradiological impacts, the proposed action does not involve any historic sites. It does not affect nonradiological plant effluents and has no other environmental impact. Therefore, there are no significant nonradiological environmental impacts associated with the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the FCS dated August 1972.

Agencies and Persons Consulted

In accordance with its stated policy, on February 12, 2002, the staff consulted with the Nebraska State official, Julia Schmitt of the Nebraska Consumer Health Services Agency, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 14, 2001. Documents may be examined, and/or copied for a fee, at the NRC's Public Document Room, located at One White Flint North, 11555 Rockville Pike (first floor), Rockville, Maryland. Publicly available records will be accessible electronically from the Agencywide Documents Access and Management System (ADAMS) Public Electronic Reading Room on the internet at the NRC Web site, http://www.nrc.gov/reading-rm/adams/html. Persons who do not have access to ADAMS or who encounter problems in accessing the documents located in ADAMS, should contact the NRC PDR Reference staff by telephone at 1-800-397-4209 or 301-415-4737, or by e-mail to pdr@nrc.gov.

Dated at Rockville, Maryland, this 21st day of February 2002.
For the Nuclear Regulatory Commission.
Stephen Dembek,
Project Directorate IV, Chief, Section 2, Division of Licensing Project Management, Office of Nuclear Reactor Regulation.

[FR Doc. 02-4590 Filed 2-26-02; 8:45 am]

BILLING CODE 7590-01-P